DEPARTMENT OF TRANSPORTATION

Federal Aviation Administration

14 CFR Part 39

[Docket No. FAA-2004-19693; Directorate Identifier 2004-CE-40-AD; Amendment 39-13904; AD 2004-25-16]

RIN 2120-AA64

Airworthiness Directives; Kelly Aerospace Power Systems Part Number (P/N) 14D11, A14D11, B14D11, C14D11, 23D04, A23D04, B23D04, C23D04, or P23D04 Fuel Regulator Shutoff Valves (Formerly Owned by ElectroSystems, JanAero Devices, Janitrol, C&D, FL Aerospace, and Midland-Ross Corporation)

AGENCY: Federal Aviation Administration (FAA), DOT.

ACTION: Final rule; request for comments.

SUMMARY: The FAA is adopting a new airworthiness directive (AD) to supersede AD 2001-17-13, which applies to aircraft equipped with a Kelly Aerospace Power Systems (Kelly Aerospace) part number (P/N) 14D11, A14D11, B14D11, C14D11, 23D04, A23D04, B23D04, C23D04, or P23D04 fuel regulator shutoff valve used with Kelly Aerospace B1500, B2030, B2500, B3040, B3500, B4050, or B4500 B-Series combustion heaters. AD 2001-17-13 requires you to visually inspect or pressure test the fuel regulator shutoff valves for leaks and replace the fuel regulator shutoff valve if leaks are found. This AD is the result of continued reports of fuel regulator shutoff valve problems and the manufacturer revising the service information to modify the pressure test procedures and to specify installing improved design replacement parts. This AD retains the actions required in AD 2001-17-13, makes the inspection repetitive, and requires installing improved design replacement parts. We are issuing this AD to prevent failure of the fuel regulator shutoff valve, which could result in fuel leakage in aircraft with these combustion heaters. This failure could result in an aircraft fire.

DATES: This AD becomes effective on January 5, 2005.

As of January 5, 2005, the Director of the Federal Register approved the incorporation by reference of certain publications listed in the regulation.

We must receive any comments on this AD by February 11, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590-001.

• Fax: 1-202-493-2251.

• Hand delivery: Room PL-401 on the plaza level of the Nassif Building, 400 Seventh Street, SW., Washington, DC, between 9 a.m. and 5 p.m., Monday through Friday, except Federal holidays.

To get the service information identified in this proposed AD, contact Kelly Aerospace Power Systems, P.O. Box 273, Fort Deposit, Alabama 36032; telephone: (334) 227-8306; facsimile: (334) 227-8596; Internet: http://www.kellyaerospace.com.

To view the comments to this AD, go to http://dms.dot.gov. The docket number is FAA-2004-19618.

FOR FURTHER INFORMATION CONTACT: Kevin L. Brane, Aerospace Engineer, Atlanta Aircraft Certification Office, FAA, One Crown Center, 1985 Phoenix Boulevard, Suite 450, Atlanta, GA 30349; telephone: (770) 703-6063; facsimile: (770) 703-6097.

SUPPLEMENTARY INFORMATION: Has FAA taken any action to this point? Reports of JanAero fuel regulator shutoff valves leaking caused FAA to issue AD 2001-08-01, Amendment 39-12178 (66 FR 19718, April 17, 2001). AD 2001-08-1 required you to do the following on certain JanAero Devices (JanAero) 14D11 and 23D04 series fuel regulator shutoff valves used with certain JanAero combustion heaters that are installed on aircraft:

—Visually inspect and pressure test the fuel regulator shutoff valves for leaks; and

—If leaks are found, replace the fuel regulator shutoff valve.

The affected fuel regulator shutoff valves are part of the JanAero B1500, B2030, B2500, B3040, B3500, B4050, or B4500 combustion heater configuration.

Operators of aircraft with the affected fuel regulator shutoff valves installed and mechanics who did the actions of AD 2001-08-01 provided suggestions for improvement to the AD. Based on that feedback, FAA superseded AD 2001-08-01 with AD 2001-17-13, Amendment 39-12404 (66 FR 44027, August 22, 2001).

AD 2001-17-13 retained the actions of AD 2001-08-01, except it requires only the visual inspection or the pressure test of the fuel regulator shutoff valves (not both) and lists the affected fuel regulator shutoff valves by part number instead of series. AD 2001-17-13 also includes a provision for disabling the heater as an alternative method of compliance.

Accomplishment of AD 2001-17-13 is required following JanAero Service Bulletin No. A-107, dated January 8, 2001.

What has happened since AD 2001-17-13 to initiate this AD action? The FAA continues to receive reports of problems with these fuel regulator shutoff valves. This service history reflects that the inspections should be repetitive instead of one-time.

Kelly Aerospace has revised the service information to modify the pressure test procedures, to specify installing improved design replacement parts with a manufacture date code of 02/02 or later, and to make the inspection repetitive.

The New Piper Aircraft, Inc. has also issued new service information that specifies replacing part number (P/N) A23D04-7.5 with an improved design replacement part P/N P23D04-7.5.

What is the potential impact if FAA took no action? This condition, if not corrected, could result in fuel leakage in aircraft with these combustion heaters, which could result in an aircraft fire with consequent damage or destruction.

FAA's Determination and Requirements of the AD

What has FAA decided? We have evaluated all pertinent information and identified an unsafe condition that is likely to exist or develop on other products of this same type design.

Since the unsafe condition described previously is likely to exist or develop on type design aircraft equipped with a Kelly Aerospace B1500, B2030, B2500, B3040, B3500, B4050, or B4500 combustion heater, we are issuing this AD to prevent failure of the fuel regulator shutoff valve, which could result in fuel leakage in aircraft with these combustion heaters. This failure could result in an aircraft fire.

What does this AD require? This AD supersedes AD 2001-17-13 with a new AD that requires you to:

—Repetitively inspect the fuel regulator shutoff valve (visually or by pressure test) for fuel leakage;

—If fuel leakage is found, replace the fuel regulator shutoff valve with an improved design replacement part with a manufacture date code of 02/02 or later.

This AD also allows you to disable the heater as an alternative method of compliance.

In preparing this rule, we contacted type clubs and aircraft operators to get technical information and information on operational and economic impacts. We have included a discussion of information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2004-19693; Directorate Identifier 2004-CE-40-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket FAA-2004-19693; Directorate Identifier 2004-CE-40-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2001-17-13, Amendment 39-12404 (66 FR 44027, August 22, 2001), and by adding a new AD to read as follows:

2004-25-16 Kelly Aerospace Power Systems (formerly owned by ElectroSystems, JanAero Devices, Janitrol, C&D, FL Aerospace, and Midland-Ross Corporation): Amendment 39-13904; Docket No. FAA-2004-19693; Directorate Identifier 2004-CE-40-AD; Supersedes AD 2001-17-13; Amendment 39-12404.

When Does This AD Become Effective?

(a) This AD becomes effective on January 5, 2005.

Are Any Other ADs Affected by This Action?

(b) Yes. This AD supersedes AD 2001-17-13, Amendment 39-12404.

What Airplanes Are Affected by This AD?

(c) What aircraft are affected by this AD? This AD applies to aircraft equipped with a Kelly Aerospace part number (P/N) 14D11, A14D11, B14D11, C14D11, 23D04, A23D04, B23D04, C23D04 or P23D04 fuel regulator shutoff valve used with Kelly Aerospace B1500, B2030, B2500, B3040, B3500, B4050, or B4500 B-Series combustion heaters. The following is a list of aircraft where the B-Series combustion heater could be installed. This is not a comprehensive list and aircraft not on this list that have the heater installed through field approval or other methods are still affected by this AD:

Manufacturer | Aircraft models/series
(1) Bombardier Inc. | CL-215, CL-215T, and CLT-415.
(2) Cessna Aircraft Company | 208, T303, 310F, 310G, 310H, 310I, 310J, 310K, 310L, 310N, 310P, 310Q, 320C, 320D, 320E, 320F, 337 Series, 340, 340A, 414, 414A, 421, 421A, 421B, and 421C.
(3) The New Piper Aircraft, Inc | PA-23 Series, PA-30, PA-31 Series, PA-34 Series, PA-39, and PA-44 Series.
(4) Raytheon Aircraft Corporation | 95-B55 Series, 58, 58TC, 58P, 60, A60, and 76.

Note 1: The B1500, B2030, B2500, B3040, B3500, B4050, or B4500 B-Series combustion heaters were previously manufactured by Janitrol, C&D Airmotive, FL Aerospace, and Midland-Ross Corporation.

What Is the Unsafe Condition Presented in This AD?

(d) This AD is the result of numerous reports of fuel regulator shutoff valves leaking fuel. We are issuing this AD to prevent failure of the fuel regulator shutoff valve, which could result in fuel leakage in aircraft with these combustion heaters. This failure could result in an aircraft fire.

What Must I Do To Address This Problem?

(e) To address this problem, you must do the following:

Actions | Compliance | Procedures
(1) Visually inspect or pressure test the fuel regulator shutoff valve for any signs of fuel leaks | Within the next 25 hours aircraft time-in-service (TIS) after January 5, 2005 (the effective date of this AD), unless already done within the last 75 hours aircraft TIS (e.g., compliance with AD 2001-08-01 or 2001-17-13) Repetitively inspect thereafter at intervals not to exceed 100 hours aircraft TIS or 12 months, whichever occurs first. This is established to coincide with 100-hour and annual inspections | Locate the pressure regulator shutoff valve in the installation using the applicable maintenance manual for valve location, removal, and installation instructions. Follow the procedures in Kelly Aerospace Power Systems Service Bulletin No. A-107A, Issue Date: September 6, 2002, for the visual inspection or the pressure test.
(2) If no fuel leaks or no signs of fuel stains are found during each inspection required by paragraph (e)(1) of this AD, mark the valve cover with date of inspection (month/year) using permanent ink and letters .12-.25″ high next to or below the date of manufacture and make a log book entry with the date of inspection (month/year) | Prior to further flight after each inspection required in paragraph (e)(1) of this AD | Follow the procedures in Kelly Aerospace Power Systems Service Bulletin No. A-107A, Issue Date: September 6, 2002.
(3) If any signs of fuel leaks or any signs of fuel stains are found during any inspection required in paragraph (e)(1) of this AD, replace the valve with a new valve of appropriate part number (P/N) that has a manufacturer's date code of 02/02 or later. For Piper PA-31-350 model aircraft, replace P/N A23D04-7.5 valve with P/N P23D04-7.5 Ensure there are no fuel leaks in the replacement valve by following the inspection and identification requirements in paragraphs (e)(1) and (e)(2) of this AD | Before further flight after the inspection where any fuel leak was found | Follow Kelly Aerospace Power Systems Service Bulletin No. A-107A, Issue Date: September 6, 2002; Piper Vendor Service Publication VSP-150, dated January 31, 2003; and the applicable maintenance manual.
(4) As an alternative method of compliance to this AD, you may disable the heater provided you immediately comply with the inspection, identification, and replacement requirements of this AD when you bring the heater back into service. Do the following actions when disabling: (i) Cap the fuel supply line upstream of the fuel regulator and shutoff valve; (ii) Disconnect the electrical power and ensure that the connections are properly secured to reduce the possibility of electrical spark or structural damage; (iii) Inspect and test to ensure that the cabin heater system is disabled; (iv) Ensure that no other aircraft system is affected by this action; (v) Ensure there are no fuel leaks; and (vi) Fabricate a placard with the words: “System Inoperative”. Install this placard at the heater control valve within the pilot's clear view. | If you choose this option, you must do it before the next required inspection specified in paragraph (e)(1) of this AD. To bring the heater back into service, you must do the actions of paragraphs (e)(1), (e)(2), and (e)(3) of this AD (inspection, identification, and replacement, as necessary) | Not Applicable.
(5) Only install a fuel regulator shutoff valve with a manufacture date code of 02/02 or later | As of January 5, 2005 (the effective date of this AD) | Not Applicable.

May I Request an Alternative Method of Compliance?

(f) You may request a different method of compliance or a different compliance time for this AD by following the procedures in 14 CFR 39.19. Unless FAA authorizes otherwise, send your request to your principal inspector. The principal inspector may add comments and will send your request to the Manager, Atlanta ACO, FAA. For information on any already approved alternative methods of compliance, contact Kevin L. Brane, Aerospace Engineer, Atlanta Aircraft Certification Office, FAA, One Crown Center, 1985 Phoenix Boulevard, Suite 450, Atlanta, GA 30349; telephone: (770) 703-6063; facsimile: (770) 703-6097.

Does This AD Incorporate Any Material by Reference?

(g) You must do the actions required by this AD following the instructions in Kelly Aerospace Power Systems Service Bulletin No. A-107A, Issue Date: September 6, 2002; and Piper Vendor Service Publication VSP-150, dated January 31, 2003. The Director of the Federal Register approved the incorporation by reference of this service bulletin in accordance with 5 U.S.C. 552(a) and 1 CFR part 51. To get a copy of this service information, contact Kelly Aerospace Power Systems, P.O. Box 273, Fort Deposit, Alabama 36032; telephone: (334) 227-8306; facsimile: (334) 227-8596; Internet: http://www.kellyaerospace.com. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19693.

Issued in Kansas City, Missouri, on December 6, 2004.
William J. Timberlake,
Acting Manager, Small Airplane Directorate, Aircraft Certification Service.

[FR Doc. 04-27283 Filed 12-15-04; 8:45 am]

BILLING CODE 4910-13-P